FEDERAL TRADE COMMISSION

16 CFR Parts 801, 802, and 803

Premerger Notification; Reporting and Waiting Period Requirements

Correction

In rule document 2018-14378, appearing on pages 32768 through 32784, in the issue of Monday, July 16, 2018, make the following correction:

The graphic in Appendix B, beginning on page 32773, is corrected in its entirety as set forth below.

PART 803—TRANSMITTAL RULES [CORRECTED]

* * * * *

Appendix B to Part 803—Instructions to the Notification and Report Form for Certain Mergers and Acquisitions

* * * * *

BILLING CODE 1301-00-D

* * * * *

[FR Doc. C2-2018-14378 Filed 9-7-18; 8:45 am]

BILLING CODE 1301-00-C